FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011819.

Title: Contship/CMA CGM-Hapag-Lloyd Space Charter Agreement.

Parties: Contship Containerlines, CMA CGM, S.A., Hapag-Lloyd Container Linie GmbH.

Synopsis: The agreement authorizes Contship and CMA CGM to charter space to Hapag-Lloyd on the service they operate between the Indian Subcontinent, the Middle East, the Mediterranean, and South East Asia, on the one hand, and the U.S. East Coast, on the other.

Agreement No.: 200599-007.

Title: Oakland/Yusen Terminal Agreement.

Parties: City of Oakland, Board of Port Commissioners, Yusen Terminals, Inc.

Synopsis: This amendment provides for the termination of the agreement on the date selected by the Assignee, but not before the commencement of Non-Exclusive Preferential Use Agreement Between The Port of Oakland and SSA Terminals LLC, FMC Agreement No. 201113-001, nor more than six months after the commencement date of that agreement.

Agreement No.: 201087-002.

Title: Oakland—International Transportation Marine, Terminal Agreement.

Parties: City of Oakland: Board of Port Commissioners, International Transportation Service, Inc.

Synopsis: The proposed amendment permits the use of the premises by ValuShip, Ltd. as an “other additional user” under the terms of the basic agreement.

Agreement No.: 201105-002.

Title: Terminal Use Agreement between the Port of Oakland and China Shipping Container Lines.

Parties: Port of Oakland, China Shipping Container Lines (Shanghai).

Synopsis: The amendment permits China Shipping's cargo off-loaded from CMA CGM, S.A.'s vessels to be considered under this agreement for compensation purposes.

Dated: September 13, 2002.
By Order of the Federal Maritime Commission.
Theodore A. Zook,
Assistant Secretary.

[FR Doc. 02-23725 Filed 9-17-02; 8:45 am]

BILLING CODE 6730-01-P